NATIONAL SCIENCE FOUNDATION

Proposal Review Panel for Computing & Communication Foundations Notice of Meeting

In accordance with the Federal Advisory Committee Act (Pub. L. 92-463, as amended), the National Science Foundation announces the following meeting:

Name: Proposal Review Panel for Science and Technology Centers—2013 Class (#1192) Site Visit

Date/Time: June 15, 2014; 6:00 p.m.-9:00 p.m. June 16, 2014; 8:00 a.m.-8:00 p.m. June 17, 2014; 8:30 a.m.-3:00 p.m.

Place: Massachusetts Institute of Technology, Cambridge, MA 02139

Type of Meeting: Partial Closed

Contact Person: John Cozzens, National Science Foundation, 4201 Wilson Boulevard, Room 1115, Arlington, VA 22230. Telephone: (703) 292-8910.

Purpose of Meeting: To assess the progress of the STC Award: CCF-1231216, “Emerging Frontiers of Science of Information”, and to provide advise and recommendations concerning further NSF support for the Center.

CBMM Site Visit AGENDA

Sunday, June 15, 2014

6:00 p.m. to 9:00 p.m.: Closed Site Team and NSF Staff meets to discuss Site Visit materials, review process and charge.

Monday, June 16, 2014

8:00 a.m. to 1:00 p.m.: Open Presentations by Awardee Institution, faculty staff and students, to Site Team and NSF Staff. Discussions and question and answer sessions.

1:00 p.m.-8:00 p.m.: Closed Draft report on education and research activities.

Tuesday, June 17, 2014

8:30 a.m.-noon: Open Response presentations by Site Team and NSF Staff Awardee Institution faculty staff to. Discussions and question and answer sessions.

Noon to 3:00 p.m.: Closed Complete written site visit report with preliminary recommendations.

Reason for Closing: The proposals being reviewed include information of a proprietary or confidential nature, including technical information; financial data, such as salaries; and personal information concerning individuals associated with the proposals. These matters are exempt under 5 U.S.C. 552b(c), (4) and (6) of the Government in the Sunshine Act.

Dated: May 2, 2014.
Suzanne Plimpton,
Acting Committee Management Officer.

[FR Doc. 2014-10494 Filed 5-6-14; 8:45 am]

BILLING CODE 7555-01-P